DEPARTMENT OF ENERGY

Federal Energy Regulatory Commission

Combined Notice of Filings #2

Take notice that the Commission received the following electric rate filings:

Docket Numbers: ER10-2042-028; ER10-1945-008; ER10-1944-006; ER10-2051-008; ER10-1942-020; ER17-696-008; ER14-2931-006; ER10-1941-010; ER10-2043-008; ER10-2029-010; ER10-2041-008; ER18-1321-001; ER10-2040-008; ER10-1938-023; ER10-2036-009; ER13-1407-007; ER10-1934-022; ER10-1893-022; ER10-3051-027; ER10-2985-026; ER10-3049-027; ER10-1889-006; ER10-1888-010; ER10-1885-010; ER15-748-004; ER10-1884-010; ER10-1883-010; ER10-1878-010; ER10-3260-008; ER10-1877-005; ER10-1895-006; ER10-1876-010; ER10-1875-010; ER10-1873-010; ER10-1871-007; ER10-1870-006; ER11-4369-007; ER16-2218-007; ER12-1987-008; ER10-1947-010; ER12-2645-003; ER10-1863-006; ER10-1862-022; ER10-1933-005; ER12-2261-009; ER10-1865-009; ER10-1858-006; ER13-1401-006; ER10-2044-008.

Applicants: Calpine Energy Services, L.P., Auburndale Peaker Energy Center, LLC, Bethpage Energy Center 3, LLC, Calpine Bethlehem, LLC, Calpine Construction Finance Company, L.P., Calpine Energy Solutions, LLC, Calpine Fore River Energy Center, LLC, Calpine Gilroy Cogen, L.P., Calpine Mid-Atlantic Generation, LLC, Calpine Mid-Atlantic Marketing, LLC, Calpine Mid Merit, LLC, Calpine Mid-Merit II, LLC, Calpine New Jersey Generation, LLC, Calpine Power America—CA, LLC, Calpine Vineland Solar, LLC, CCFC Sutter Energy, LLC, CES Marketing IX, LLC, CES Marketing X, LLC, Champion Energy, LLC, Champion Energy Marketing LLC, Champion Energy Services, LLC, CPN Bethpage 3rd Turbine, Inc., Creed Energy Center, LLC, Delta Energy Center, LLC, Geysers Power Company, LLC, Gilroy Energy Center, LLC, Goose Haven Energy Center, LLC, Granite Ridge Energy, LLC, Hermiston Power, LLC, KIAC Partners, Los Esteros Critical Energy Facility LLC, Los Medanos Energy Center, LLC, Metcalf Energy Center, LLC, Morgan Energy Center, LLC, Nissequogue Cogen Partners, North American Power and Gas, LLC, North American Power Business, LLC, O.L.S. Energy-Agnews, Inc., Otay Mesa Energy Center, LLC, Pastoria Energy Facility L.L.C., Pine Bluff Energy, LLC, RockGen Energy, LLC, Power Contract Financing, L.L.C., Russell City Energy Company, LLC, South Point Energy Center, LLC, Westbrook Energy Center, LLC, Zion Energy LLC, TBG Cogen Partners, Garrison Energy Center LLC.

Description: Notification of Change in Status of the Calpine MBR Sellers.

Filed Date: 7/31/18.

Accession Number: 20180731-5112.

Comments Due: 5 p.m. ET 8/21/18.

Docket Numbers: ER18-614-003.

Applicants: PJM Interconnection, L.L.C.

Description: Compliance filing: Compliance Filing—OATT, Sch. 12—Appendix A re: RTEP to be effective 4/5/2018.

Filed Date: 7/31/18.

Accession Number: 20180731-5110.

Comments Due: 5 p.m. ET 8/21/18.

Docket Numbers: ER18-1737-001.

Applicants: Northern Indiana Public Service Company.

Description: Tariff Amendment: Amendment to Reactive Power Rate Filing of NIPSCO to be effective 10/1/2018.

Filed Date: 7/31/18.

Accession Number: 20180731-5107.

Comments Due: 5 p.m. ET 8/21/18.

Docket Numbers: ER18-2110-000.

Applicants: Buckeye Power, Inc., PJM Interconnection, L.L.C.

Description: § 205(d) Rate Filing: Revised SA No. 4753—NITSA among PJM and Buckeye Power, Inc. to be effective 10/1/2018.

Filed Date: 7/31/18.

Accession Number: 20180731-5088.

Comments Due: 5 p.m. ET 8/21/18.

Docket Numbers: ER18-2111-000.

Applicants: Midcontinent Independent System Operator, Inc., ITC Midwest LLC.

Description: § 205(d) Rate Filing: 2018-07-31_SA 3142 ITC Midwest-EDF Renewables E&P Agreement (J495) to be effective 9/30/2018.

Filed Date: 7/31/18.

Accession Number: 20180731-5111.

Comments Due: 5 p.m. ET 8/21/18.

Docket Numbers: ER18-2112-000.

Applicants: Midcontinent Independent System Operator, Inc.

Description: § 205(d) Rate Filing: 2018-07-31_SA 3137 Entergy Arkansas-Cooperative Energy TSR CPA (F116) to be effective 6/28/2018.

Filed Date: 7/31/18.

Accession Number: 20180731-5141.

Comments Due: 5 p.m. ET 8/21/18.

Docket Numbers: ER18-2113-000.

Applicants: Midcontinent Independent System Operator, Inc.

Description: § 205(d) Rate Filing: 2018-07-31_Revisions to Attachment O-MRES interest rate calculation language to be effective 8/1/2018.

Filed Date: 7/31/18.

Accession Number: 20180731-5153.

Comments Due: 5 p.m. ET 8/21/18.

Docket Numbers: ER18-2114-000.

Applicants: Southwest Power Pool, Inc.

Description: § 205(d) Rate Filing: 3215R4 People's Electric Cooperative NITSA NOA to be effective 7/1/2018.

Filed Date: 7/31/18.

Accession Number: 20180731-5176.

Comments Due: 5 p.m. ET 8/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2018.
Nathaniel J. Davis, Sr.,
Deputy Secretary.

[FR Doc. 2018-16747 Filed 8-3-18; 8:45 am]

BILLING CODE 6717-01-P